U.S. SMALL BUSINESS ADMINISTRATION

[Disaster Declaration # 10322 and # 10323]

Texas Disaster Number TX-00097

AGENCY: U.S. Small Business Administration.

ACTION: Amendment 5.

SUMMARY: This is an amendment of the Presidential declaration of a major disaster for the State of Texas (FEMA-1624-DR), dated 1/11/2006.

Incident: Extreme Wildfire Threat.

Incident Period: 12/1/2005 and continuing.

Effective Date: 4/17/2006.

Physical Loan Application Deadline Date: 4/30/2006.

EIDL Loan Application Deadline Date: 10/11/2006.

ADDRESSES: Submit completed loan applications to: U.S. Small Business Administration, National Processing and Disbursement Center, 14925 Kingsport Road Fort, Worth, TX 76155.

FOR FURTHER INFORMATION CONTACT: A. Escobar, Office of Disaster Assistance, U.S. Small Business Administration, 409 3rd Street, Suite 6050, Washington, DC 20416.

SUPPLEMENTARY INFORMATION: The notice of the Presidential disaster declaration for the State of Texas, dated 1/11/2006 is hereby amended to include the following areas as adversely affected by the disaster:

Primary Counties:

Potter.

All other information in the original declaration remains unchanged.

(Catalog of Federal Domestic Assistance Numbers 59002 and 59008)

Herbert L. Mitchell,
Associate Administrator for Disaster Assistance.

[FR Doc. E6-6190 Filed 4-24-06; 8:45 am]

BILLING CODE 8025-01-P